DEPARTMENT OF THE INTERIOR

Geological Survey

[Docket No. USGS-2025-0171; OMB Control Number 1028-0065; GX26LR000F60100]

Agency Information Collection Activities; Submission to the Office of Management and Budget (OMB) for Review and Approval; Production Estimate

AGENCY: U.S. Geological Survey, Interior.

ACTION: Notice of information collection; request for comment.

SUMMARY: In accordance with the Paperwork Reduction Act (PRA) of 1995 and its implementing regulations, the U.S. Geological Survey (USGS, we) proposes to renew an information collection without change.

DATES: Interested persons are invited to submit comments. To be considered, we must receive your comments on or before March 24, 2026.

ADDRESSES: You may submit comments by one of the following methods:

Internet: https://www.regulations.gov. Search for and submit comments on Docket No. USGS-2025-0171.

U.S. Mail: USGS, Information Collections Clearance Officer, 12201 Sunrise Valley Drive, MS 159, Reston, VA 20192.

FOR FURTHER INFORMATION CONTACT: Shonta E. Osborne by email at sosborne@usgs.gov, or by telephone at 703-648-7960. Individuals in the United States who are deaf, deafblind, hard of hearing, or have a speech disability may dial 711 (TTY, TDD, or TeleBraille) to access telecommunications relay services. Individuals outside the United States should use the relay services offered within their country to make international calls to the point-of-contact in the United States. You may also view the Information Collection Request (ICR) at https://www.reginfo.gov/public/do/PRAMain.

SUPPLEMENTARY INFORMATION: In accordance with the PRA, as part of our continuing effort to reduce paperwork and respondent burdens, we provide the general public and other Federal agencies with an opportunity to comment on new, proposed, revised, and continuing collections of information. This helps us assess the impact of our information collection requirements and minimize the public's reporting burden. It also helps the public understand our information collection requirements and provides the requested data in the desired format.

We are soliciting comments on the proposed ICR described below. We are especially interested in public comments addressing the following:

(1) if the collection necessary for the proper performance of the functions of the USGS minerals information mission, including whether the information will have practical utility; (2) will this information be processed and used in a timely manner; (3) is the estimate of burden accurate; (4) how the USGS might enhance the quality, utility, and clarity of the information to be collected; and (5) how the USGS might minimize the burden of this collection on the respondents, including through the use of information technology.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: This collection is needed to provide data on mineral production for annual commodity reports for use by government agencies, congressional offices, educational institutions, research organizations, financial institutions, consulting firms, industry, academia, and the general public. These data and derived information will be published in the “Mineral Commodity Summaries,” the publication that furnishes estimates covering the previous year's nonfuel mineral industry.

Title of Collection: Production Estimate.

OMB Control Number: 1028-0065.

Form Numbers: USGS Forms 9-4042-A and 9-4124-A.

Type of Review: Renewal with extension of a currently approved information collection.

Respondents/Affected Public: Businesses or other for-profit institutions; U.S. nonfuel minerals consumers.

Total Estimated Number of Annual Respondents: 848.

Total Estimated Number of Annual Responses: 848.

Estimated Completion Time per Response: 15 minutes.

Total Estimated Number of Annual Burden Hours: 212.

Respondent's Obligation: Voluntary.

Frequency of Collection: Annually.

Total Estimated Annual Non-hour Burden Cost: There are no “non-hour cost” burdens associated with this ICR.

An agency may not conduct or sponsor, nor is a person required to respond to a collection of information unless it displays a currently valid OMB control number.

The authorities for this action are the PRA, the National Materials and Minerals Policy, Research and Development Act of 1980 (30 U.S.C. 1601 et seq.), the National Mining and Minerals Policy Act of 1970 (30 U.S.C. 21a), and the Strategic and Critical Materials Stock Piling Act (50 U.S.C. 98 et seq.).

Braden Harker,
Director, National Minerals Information Center, U.S. Geological Survey.

[FR Doc. 2026-01224 Filed 1-22-26; 8:45 am]

BILLING CODE 4338-11-P